DEPARTMENT OF HEALTH AND HUMAN SERVICES

Health Resources and Services Administration

CDC/HRSA Advisory Committee on HIV, Viral Hepatitis and STD Prevention and Treatment; Notice of Meeting

In accordance with section l0(a)(2) of the Federal Advisory Committee Act (Pub. L. 92-463), notice is hereby given of the following virtual committee meeting.

Name: CDC/HRSA Advisory Committee on HIV, Viral Hepatitis and STD Prevention and Treatment

Dates and Times: November 13, 2013, 10:00 a.m.-4:30 p.m. November 14, 2013, 10:00 a.m.-12:30 p.m.

Place: This meeting is accessible via audio conference call and Adobe Connect Pro.

Status: This meeting is open to the public. The available lines will accommodate approximately 300 people.

Purpose: This Committee is charged with advising the Director, CDC, and the Administrator, HRSA, regarding activities related to prevention and control of HIV/AIDS, Viral Hepatitis and other STDs, the support of health care services to persons living with HIV/AIDS, and education of health professionals and the public about HIV/AIDS, Viral Hepatitis, and other STDs.

Agenda: Agenda items include: (1) Affordable Care Act (ACA) Updates; (2) Clinical Workforce Issues; and (3) CHAC Workgroup Updates. Agenda items are subject to change as priorities dictate. To register for this event, please go to the following link: https://hrsa.connectsolutions.com/advisorychac/event/registration.html.

After you register, you should receive a confirmation email with a URL link for access to this event. You will also need to enter your Adobe Connect user name and password. If you've never used Adobe Connect, get a quick overview: http://www.adobe.com/go/connectpro_overview.

The public can join the meeting by:

1. (Audio Portion) Calling the Toll free Phone Number 1-888-324-9564 and providing the Participant Pass Code 4805129, and

2. (Visual Portion) Connecting to the Advisory Committee Adobe Connect Pro Meeting using the following URL: https://hrsa.connectsolutions.com/advisorychac/event/login.html (copy and paste the link into your browser if it does not work directly).

Participants should call and connect 15 minutes prior to the meeting in order for logistics to be set up. Call (301) 443-9684 or send an email to sgordon@hrsa.gov if you are having trouble registering for this meeting; or call (301) 443-2843 or send an email to lfores@hrsa.gov if you are having trouble connecting to the meeting site.

Public Comment: Persons who desire to make an oral statement may request it at the time of the public comment period. Public participation and ability to comment will be limited to space and time as it permits.

FOR FURTHER INFORMATION CONTACT: Shelley B Gordon, Health Resources and Services Administration, HIV/AIDS Bureau, 5600 Fishers Lane, Rockville, Maryland 20857, telephone at (301) 443-9684.

Dated: October 21, 2013.
Bahar Niakan,
Director, Division of Policy and Information Coordination.

[FR Doc. 2013-25231 Filed 10-25-13; 8:45 am]

BILLING CODE 4165-15-P